DEPARTMENT OF AGRICULTURE

Commodity Credit Corporation

Information Collection; Commodity Request (Food Aid Request Entry System, FARES)

AGENCY: Commodity Credit Corporation, USDA.

ACTION: Notice; request for comments.

SUMMARY: In accordance with the Paperwork Reduction Act of 1995, the Commodity Credit Corporation (CCC) is seeking comments from all interested individuals and organizations on the extension and revision of an approved information collection under the Paperwork Reduction Act. CCC procures various processed foods and commodities to be exported and donated for use in humanitarian food aid programs. Information related to this activity was previously collected on the United States Agency for International Development (USAID) Form USAID 1550-4, Commodity Request for Foreign Distribution. The Food Aid Request Entry System (FARES) has been developed to replace the AID Form 1550-4 with electronic processing through the FARES.

DATES: Comments on this notice must be received on or before March 29. 2004 to be assured consideration.

ADDRESSES: Comments concerning this notice should be addressed to: Donna Ryles, Chief, Planning and Analysis Division, Kansas City Commodity Office, 6501 Beacon Drive, Kansas City, Missouri 64133-4676. Comments also may be submitted via facsimile to (816) 926-1648, telephone (816) 926-1505 or by e-mail to dgryles@kcc.fsa.gov. Comments regarding this information collection requirement may be directed to the Office of Information and Regulatory Affairs of OMB, Attention: Desk Officer for USDA, Washington, DC 20503.

FOR FURTHER INFORMATION CONTACT: Sharon Hadder, Marketing Specialist, (202) 720-3816, or Sharon_Hadder@wdc.fsa.usda.gov.

SUPPLEMENTARY INFORMATION:

Description of Information Collection

Title: Food Aid Request Entry System (FARES).

OMB Control Number: 0560-0225.

Type of Request: Extension with revision.

Abstract: The information collection is necessary for the Commodity Credit Corporation (CCC) to procure various processed foods and commodities for export under humanitarian food aid programs. The FARES has been developed to automate the entry of commodity requests submitted to CCC from the United States Agency for International Development (USAID), private voluntary organizations (PVOs), the World Food Program (WFP), the Foreign Agricultural Service (FAS), and the Farm Service Agency (FSA). The FARES will replace the USAID Form 1550-4, Commodity Request for Foreign Distribution, which will become obsolete.

Estimate of Burden: Public reporting burden for collecting information under this notice is estimated to average 1 hour per response, including the time for reviewing instructions, searching existing data sources, gathering and maintaining the data needed, and completing and reviewing the information.

Respondents: United States Agency for International Development (USAID), private voluntary organizations (PVOs), the World Food Program (WFP), Foreign Agricultural Service (FAS) and the Farm Service Agency (FSA).

Respondents: 300.

Estimated Number of Annual Responses Per Respondent: 12.

Estimated Total Annual Burden on Respondents: 3,600 hours.

Comment is invited on: (a) Whether the collection of information is necessary for the proper performance of the functions of the agency, including whether the information will have practical utility; (b) the accuracy of the agency's estimate of burden including the validity of the methodology and assumptions used; (c) ways to enhance the quality, utility and clarity of the information collected; or (d) ways to minimize the burden of the collection of the information on those who are to respond, including through the use of appropriate automated, electronic, mechanical, or other technological collection techniques or other forms of information technology. All comments received in response to this notice, including names and addresses when provided, will be a matter of public record. Comments will be summarized and included in the submission for Office of Management and Budget approval.

Signed at Washington, DC, on January 16, 2004.
James R. Little,
Executive Vice President, Commodity Credit Corporation.

[FR Doc. 04-1670 Filed 1-26-04; 8:45 am]

BILLING CODE 3410-05-P